DEPARTMENT OF COMMERCE

National Oceanic and Atmospheric Administration

Sanctuary System Business Advisory Council: Public Meeting

AGENCY: Office of National Marine Sanctuaries (ONMS), National Ocean Service (NOS), National Oceanic and Atmospheric Administration (NOAA), Department of Commerce (DOC).

ACTION: Notice of open public meeting.

SUMMARY: Notice is hereby given of a meeting of the Sanctuary System Business Advisory Council (council). The meeting is open to the public, and an opportunity for oral and written comments will be provided.

DATES: The meeting will be held Friday, April 30, 2021 from 1:00 p.m. to 3:30 p.m. EDT, and an opportunity for public comment will be provided around 3:00 p.m. EDT. Both times and agenda topics are subject to change.

ADDRESSES: The meeting will be held virtually using Google Meet. To participate, please use the website provided below. If you are unable to participate online, you can also connect to the public meeting using the phone number provided.

Website: meet.google.com/bqg-qadx-yxp

Phone: +1 (904) 323-0324, PIN: 632 315 281#

To provide a public comment during the virtual meeting, please sign up in advance by contacting Katie Denman by phone (240-533-0702) or email (katie.denman@noaa.gov). Please note, no public comments will be recorded. Public comments, including any associated names, will be captured in the minutes of the meeting, will be maintained by the Office of National Marine Sanctuaries (ONMS) as part of its administrative record, and may be subject to release pursuant to the Freedom of Information Act. By signing up to provide a public comment, you agree that these communications, including your name and comment, will be maintained as described here.

FOR FURTHER INFORMATION CONTACT: Katie Denman, Office of National Marine Sanctuaries, 1305 East-West Highway, Silver Spring, Maryland 20910 (Phone: 240-533-0702; Email: katie.denman@noaa.gov).

SUPPLEMENTARY INFORMATION: ONMS serves as the trustee for a network of underwater parks encompassing more than 620,000 square miles of marine and Great Lakes waters from Washington State to the Florida Keys, and from Lake Huron to American Samoa. The network includes a system of 14 national marine sanctuaries and Papahānaumokuākea and Rose Atoll marine national monuments. National marine sanctuaries protect our Nation's most vital coastal and marine natural and cultural resources, and through active research, management, and public engagement, sustain healthy environments that are the foundation for thriving communities and stable economies.

One of the many ways ONMS ensures public participation in the designation and management of national marine sanctuaries is through the formation of advisory councils. The Sanctuary System Business Advisory Council (council) has been formed to provide advice and recommendations to the Director regarding the relationship of ONMS with the business community. Additional information on the council can be found at https://sanctuaries.noaa.gov/management/bac/.

Matters to be discussed: The meeting will include updates from ONMS, election of council officers, and possible formation of working groups to address issues related to sustainable recreation and tourism in national marine sanctuaries. For a complete agenda, including times and topics, please visit http://sanctuaries.noaa.gov/management/bac/meetings.html.

Authority: 16 U.S.C. 1431, et seq.

John Armor,
Director, Office of National Marine Sanctuaries, National Ocean Service, National Oceanic and Atmospheric Administration.

[FR Doc. 2021-06764 Filed 4-1-21; 8:45 am]

BILLING CODE 3510-NK-P